DEPARTMENT OF TRANSPORTATION

Coast Guard

[USCG-2002-11313]

Great Lakes Pilotage Advisory Committee

AGENCY: Coast Guard, DOT.

ACTION: Notice of meeting.

SUMMARY: The Great Lakes Pilotage Advisory Committee (GLPAC) will meet to discuss various organizational and administrative issues relating to the operation of the Committee and to develop a business plan for 2002. The meetings are open to the public.

DATES: GLPAC will meet on Friday, February 1, 2002, from 9:00 a.m. to 12:00 p.m. The meeting may close early if all business is finished. Written material and requests to make oral presentations should reach the Coast Guard on or before January 25, 2002. Requests to have material distributed to each member of the Council prior to the meeting should reach the Executive Director of GLPAC along with 25 copies of the material on or before January 22, 2002.

ADDRESSES: GLPAC will meet at in Room B1 of the Federal Building, 1240 East 9th Street, Cleveland, OH 44199. Send written material and requests to make oral presentations to Ms. Margie G. Hegy, Commandant (G-MW), U.S. Coast Guard Headquarters, 2100 Second Street SW., Washington, DC 20593-0001. This notice is available on the Internet at http://dms.dot.gov.

FOR FURTHER INFORMATION CONTACT: Ms. Margie G. Hegy, Executive Director of GLPAC, telephone 202-267-0415, fax 202-267-4700.

SUPPLEMENTARY INFORMATION: Notice of this meeting is given under the Federal Advisory Committee Act, 5 U.S.C. App. 2.

Agenda of Meeting

The agenda includes the following:

(1) Review of GLPAC's Charter.

(2) Overview of the Federal Advisory Committee Act (FACA).

(3) Committee Operating Procedures.

(4) Committee Planning Session for 2002 and Business Plan Development.

Procedural

All meetings are open to the public. Please note that the meeting may close early if all business is finished. At the Executive Director's discretion, members of the public may make oral presentations during the meetings. If you would like to make an oral presentation, please notify the Executive Director no later than January 25, 2002. Written material for distribution at a meeting should reach the Coast Guard no later than January 25, 2002. If you would like a copy of your material distributed to each member of the Council in advance of the meeting, please submit 25 copies to the Executive Director no later than January 22, 2002.

Information on Services for Individuals With Disabilities

For information on facilities or services for individuals with disabilities or to request special assistance at the meetings, contact the Executive Director as soon as possible.

Dated: January 11, 2002.
Jeffrey P. High,
Director of Waterways Management.

[FR Doc. 02-1186 Filed 1-16-02; 8:45 am]

BILLING CODE 4910-15-P